DEPARTMENT OF COMMERCE

National Oceanic and Atmospheric Administration

[RTID 0648-XF325]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold a public workshop.

DATES: The workshop will be held on Wednesday, December 10, 2025, from 9:30 a.m. to 4:30 p.m. See SUPPLEMENTARY INFORMATION for agenda details.

ADDRESSES: This will be an in-person workshop with a virtual option. Invited workshop participants and members of the public will have the option to participate in person at the Sheraton BWI Airport (1100 Old Elkridge Landing Rd, Linthicum Heights, MD) or virtually via Webex webinar. Webinar connection instructions and background materials will be available at: www.mafmc.org.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Council in coordination with contractors from the University of Massachusetts Dartmouth and Hydra Scientific are holding a workshop to support the Council's resilient fisheries project on “operationalizing ecosystem and habitat indicators to support climate-ready fisheries management in the Mid-Atlantic”. This workshop will bring together Council members, stakeholders, scientists, and staff to identify and prioritize management processes where ecosystem and habitat indicators can enhance management decisions.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: November 13, 2025.
Rey Israel Marquez,
Acting Deputy Director, Office of Sustainable Fisheries, National Marine Fisheries Service.

[FR Doc. 2025-20056 Filed 11-17-25; 8:45 am]

BILLING CODE 3510-22-P